DEPARTMENT OF COMMERCE

National Oceanic and Atmospheric Administration

RIN 0648-XB158

Marine Mammals; File No. 16580

AGENCY: National Marine Fisheries Service (NMFS), National Oceanic and Atmospheric Administration (NOAA), Commerce.

ACTION: Notice; issuance of permit.

SUMMARY: Notice is hereby given that a permit has been issued to Shannon Atkinson, Ph.D., University of Alaska Fairbanks, 17101 Pt. Lena Loop Road, Juneau, AK 99801 to receive, import and export marine mammal parts for scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and Alaska Region, NMFS, P.O. Box 21668, Juneau, AK 99802-1668; phone (907) 586-7221; fax (907) 586-7249.

FOR FURTHER INFORMATION CONTACT: Laura Morse or Jennifer Skidmore, (301)427-8401.

SUPPLEMENTARY INFORMATION: On May 30, 2012 notice was published in the Federal Register (77 FR 31835) that a request for a permit to receive, import and export specimens for scientific research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes the receipt and export of samples of marine mammals taken by Alaskan Native subsistence hunters; and the receipt, import, and export of specimens from scientists in academic, federal, and state institutions involved in legally authorized marine mammal research for all marine mammal species under NMFS jurisdiction. Marine mammal parts may be used incidentally for educational purposes. Import and export activities may occur world-wide. No takes of live animals are authorized. The permit will expire August 1, 2017.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: August 1, 2012.
P. Michael Payne,
Chief, Permits and Conservation Division, Office of Protected Resources, National Marine Fisheries Service.

[FR Doc. 2012-19304 Filed 8-6-12; 8:45 am]

BILLING CODE 3510-22-P